DEPARTMENT OF EDUCATION

[CFDA No.: 84.133A]

Office of Special Education and Rehabilitative Services; National Institute on Disability and Rehabilitation Research

ACTION: Notice inviting applications for fiscal year (FY) 2001 new awards and announcement of pre-application meetings.

SUMMARY: We invite applications for new FY 2001 grant awards for four Disability and Rehabilitation Research Projects and Centers Program (DRRP) on: (1) Assistive Technology Outcomes and Impacts, (2) Assistive Technology Research Projects for Individuals with Cognitive Disabilities, (3) Resource Center for Community-based Research on Technology for Independence, and (4) Community-based Research Projects on Technology for Independence.

Purpose of the Program

The purpose of the Disability and Rehabilitation Research Projects and Centers Program is to improve the effectiveness of services authorized under the Rehabilitation Act of 1973. We take this action to focus research attention on an area of national need. The priorities are intended to improve rehabilitation services and outcomes for individuals with disabilities.

National Education Goals

The eight National Education Goals focus the Nation's education reform efforts and provide a framework for improving teaching and learning.

This notice addresses the National Education Goal that every adult American will be literate and will possess the knowledge and skills necessary to compete in a global economy and exercise the rights and responsibilities of citizenship.

Applicable Regulations

The Education Department General Administrative Regulations (EDGAR), 34 CFR Part 74, 75, 77, 80, 81, 82, 85, 86 and 97; and the following program regulations: Disability Rehabilitation Research Projects and Centers—34 CFR part 350, and the Notice of Final Priority published elsewhere in this issue of the Federal Register.

Pre-Application Meeting

Interested parties are invited to participate in pre-application meetings to discuss the funding priorities. In each meeting you will receive technical assistance and information about the funding priority. You may attend the meetings either in person or by conference call at the Department of Education, Office of Special Education and Rehabilitative Services, Switzer Building, Room 3065, 330 C St. SW., Washington, DC between 10:00 a.m. and 12 noon. NIDRR staff will also be available at this location from 1:30 p.m. to 4:00 p.m. on that same day to provide technical assistance through individual consultation about the funding priority.

Pre-Application Meeting Dates

The pre-application meeting for both the Resource Center for Community-based Research on Technology for Independence and Community-based Research Projects on Technology for Independence priorities will be held on July 11, 2001. For further information or to make arrangements to attend the July 11, 2001 meeting contact Dawn Carlson, Switzer Building, room 3421, 400 Maryland Avenue, SW., Washington, DC 20202. Internet: Dawn.Carlson@ed.gov Telephone (202) 401-2068. If you use a telecommunication device for the deaf (TDD), you may call (202) 205-4475.

The pre-application meeting for the Assistive Technology Outcomes and Impacts priority will be held on July 17, 2001. For further information or to make arrangements to attend the July 17, 2001 meeting contact Donna Nangle, Switzer Building, room 3414, 400 Maryland Avenue, SW., Washington, DC 20202. Internet: Donna.Nangle@ed.gov Telephone (202) 205-5880. If you use a telecommunication device for the deaf (TDD), you may call (202) 205-4475.

The pre-application meeting for the Assistive Technology Research Projects for Individuals with Cognitive Disabilities priority will be held on July 18, 2001. For further information or to make arrangements to attend the July 18, 2001 meeting contact Roseann Rafferty, Switzer Building, room 3428, 400 Maryland Avenue, SW., Washington, DC 20202. Internet: Roseann.Rafferty@ed.gov Telephone (202) 205-5867. If you use a telecommunication device for the deaf (TDD), you may call (202) 205-4475.

Assistance to Individuals With Disabilities at the Public Meetings

The meeting site is accessible to individuals with disabilities, and a sign language interpreter will be available. If you need an auxiliary aid or service other than a sign language interpreter in order to participate in the meeting (e.g., other interpreting service such as oral, cued speech, or tactile interpreter; assistive listening device; or materials in alternative format), notify the contact person listed in this notice at least two weeks before the scheduled meeting date. Although we will attempt to meet a request we receive after this date, we may not be able to make available the requested auxiliary aid or service because of insufficient time to arrange it.

Application Notice for Fiscal Year 2001—Disability and Rehabilitation Research Projects, CFDA No. 84-133A
Funding priority | Deadline for transmittal of applications | Estimated number of awards | Maximum award amount (per year)* | Project period (months)
84.133A-4, Assistive Technology Outcomes and Impacts | August 15, 2001 | 2 | $450,000 | 60
84.133A-6, Assistive Technology Research Projects for Individuals with Cognitive Disabilities | August 15, 2001 | 3 | 300,000 | 60
84.133A-5, Resource Center for Community-based Research on Technology for Independence | August 15, 2001 | 1 | 300,000 | 60
84.133A-7, Community-based Research Projects on Technology for Independence | August 15, 2001 | 3 | 300,000 | 60
*Note: The Secretary will reject without consideration or evaluation any application that proposes a project funding level that exceeds the stated maximum award amount in any year (See 34 CFR 75.104(b)).
Note: The estimate of funding level and awards in this notice do not bind the Department of Education to a specific level of funding or number of grants.

Eligible Applicants

Parties eligible to apply for grants under this program are States, public or private agencies, including for-profit agencies, public or private organizations, including for-profit organizations, institutions of higher education, and Indian tribes and tribal organizations.

Selection Criteria

The selection criteria to be used for these competitions will be provided in the application package for each competition.

For Applications Contact

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site: http://www.ed.gov/pubs/edpubs.html or its E-mail address (edpubs@inet.ed.gov). If you request an application from ED Pubs, be sure to identify this competition as follows: CFDA number 84.133A.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternative format the standard forms included in the application package.

FOR FURTHER INFORMATION CONTACT: Donna Nangle, U.S. Department of Education, 400 Maryland Avenue, SW., room 3414, Switzer Building, Washington, DC 20202-2645. Telephone: (202) 205-5880. Individuals who use a telecommunications device for the deaf (TDD) may call the TDD number at (202) 205-4475. Internet: Donna.Nangle@ed.gov.

Individuals with disabilities may obtain this document in an alternative format (e.g., Braille, large print, or computer diskette) on request to the contact person listed in the preceding paragraph.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

Program Authority: 29 U.S.C. 762(g) and 764(b).

Dated: June 20, 2001.
Francis V. Corrigan,
Deputy Director, National Institute on Disability and Rehabilitation Research.

[FR Doc. 01-15960 Filed 6-25-01; 8:45 am]

BILLING CODE 4000-01-U